DEPARTMENT OF ENERGY

Federal Energy Regulatory Commission

Combined Notice of Filings #2

Take notice that the Commission received the following electric rate filings:

Docket Numbers: ER10-1585-010; ER10-1594-010; ER10-1617-010; ER10-1626-007; ER10-1628-010; ER10-1632-012; ER12-60-012; ER16-1148-001; ER16-733-001.

Applicants: Alabama Electric Marketing, LLC, California Electric Marketing, LLC, LQA, LLC, New Mexico Electric Marketing, LLC, Tenaska Energía de Mexico, S. de R. L. de C.V., Tenaska Power Management, LLC, Tenaska Power Services Co., Tenaska Virginia Partners, L.P., Texas Electric Marketing, LLC.

Description: Updated Market Power Analysis of the Tenaska Northeast MBR Sellers.

Filed Date: 6/28/17.

Accession Number: 20170628-5213.

Comments Due: 5 p.m. ET 8/28/17.

Docket Numbers: ER10-2669-011; ER10-1547-011;ER10-1550-012; ER10-2585-007; ER10-2613-007; ER10-2616-011; ER10-2617-007; ER10-2619-008; ER10-2670-011; ER10-2674-011; ER10-2677-011; ER10-2678-010; ER11-3589-005; ER11-3857-014; ER11-3867-014; ER11-4266-013; ER11-4400-008; ER12-192-012; ER13-2475-009; ER13-2477-009; ER14-1219-004; ER14-1569-005; ER14-1699-004; ER14-883-006; ER15-1596-004; ER15-1597-003; ER15-1598-004; ER15-1599-004; ER15-1600-003; ER15-1602-003; ER15-1603-003; ER15-1604-003; ER15-1605-003; ER15-1606-003; ER15-1607-003; ER15-1608-003; ER15-1958-003; ER17-1906-001.

Applicants: ANP Bellingham Energy Company, LLC, ANP Blackstone Energy Company, LLC, Armstrong Power, LLC, Brayton Point Energy, LLC, Calumet Energy Team, LLC, Casco Bay Energy Company, LLC, Dighton Power, LLC, Dynegy Commercial Asset Management, LLC, Dynegy Conesville, LLC, Dynegy Dicks Creek, LLC, Dynegy Energy Services (East), LLC, Dynegy Energy Services, LLC, Dynegy Fayette II, LLC, Dynegy Hanging Rock II, LLC, Dynegy Kendall Energy, LLC, Dynegy Killen, LLC, Dynegy Lee II, LLC, Dynegy Marketing and Trade, LLC, Dynegy Miami Fort, LLC, Dynegy Power Marketing, LLC, Dynegy Resources Management, LLC, Dynegy Stuart, LLC, Dynegy Washington II, LLC, Dynegy Zimmer, LLC, Hopewell Cogeneration Limited Partnership, Illinois Power Marketing Company, Kincaid Generation, L.L.C., Lake Road Generating Company, LLC, Liberty Electric Power, LLC, MASSPOWER, Milford Power Company, LLC, Milford Power, LLC, Northeastern Power Company, Ontelaunee Power Operating Company, LLC, Pleasants Energy, LLC, Richland-Stryker Generation LLC, Sithe/Independence Power Partners, L.P., Troy Energy, LLC.

Description: Updated Market Power Analysis of the Dynegy Northeast MBR Sellers.

Filed Date: 6/28/17.

Accession Number: 20170628-5214.

Comments Due: 5 p.m. ET 8/28/17.

Docket Numbers: ER13-434-005; ER13-1403-006; ER13-2100-002; ER13-2106-006; ER13-2109-006; ER13-321-006; ER13-412-004; ER13-450-004; ER13-518-004; ER16-1750-003; ER16-2601-001.

Applicants: Dominion Energy Marketing, Inc., Dominion Nuclear Connecticut, Inc., Dominion Energy Manchester Street, Inc., Dominion Retail, Inc., Fairless Energy, LLC, NedPower Mount Storm, LLC, Fowler Ridge Wind Farm LLC, Virginia Electric and Power Company, Dominion Bridgeport Fuel Cell, LLC, Eastern Shore Solar LLC, Summit Farms Solar, LLC.

Description: Supplement to December 29, 2016 Triennial Market Power Analysis of the Dominion Northeast Region Companies.

Filed Date: 6/28/17.

Accession Number: 20170628-5208.

Comments Due: 5 p.m. ET 7/19/17.

Docket Numbers: ER16-1967-003.

Applicants: PJM Interconnection, L.L.C.

Description: Compliance filing: Compliance filing to amend 12/15/2017 to reflect compliance submitted on 4/24/17 to be effective 2/14/2017.

Filed Date: 6/29/17.

Accession Number: 20170629-5136.

Comments Due: 5 p.m. ET 7/20/17.

Docket Numbers: ER16-1969-003; ER16-1969-004.

Applicants: Midcontinent Independent System Operator, Inc.

Description: Second Errata to April 24, 2017 Midcontinent Independent System Operator, Inc. tariff filing [Transmittal Letter].

Filed Date: 6/28/17.

Accession Number: 20170628-5212.

Comments Due: 5 p.m. ET 7/12/17.

Docket Numbers: ER17-424-003.

Applicants: Footprint Power Salem Harbor Development.

Description: Triennial Market Power Analysis for Northeast Region of Footprint Power Salem Harbor Development LP.

Filed Date: 6/29/17.

Accession Number: 20170629-5100.

Comments Due: 5 p.m. ET 8/28/17.

Docket Numbers: ER17-716-001.

Applicants: Midcontinent Independent System Operator, Inc.

Description: Compliance filing: 2017-06-29_Amended Compliance Filing of Order No. 828 to be effective N/A.

Filed Date: 6/29/17.

Accession Number: 20170629-5174.

Comments Due: 5 p.m. ET 7/20/17.

Docket Numbers: ER17-1920-001.

Applicants: Midcontinent Independent System Operator, Inc., Michigan Electric Transmission Company.

Description: Tariff Amendment: 2017-06-29_SA 3026 METC-City of Holland SIFA Amendment to be effective 8/31/2017.

Filed Date: 6/29/17.

Accession Number: 20170629-5164.

Comments Due: 5 p.m. ET 7/20/17.

Docket Numbers: ER17-1945-000.

Applicants: Southwest Power Pool, Inc.

Description: § 205(d) Rate Filing: 1276R14 KCPL NITSA NOA to be effective 9/1/2017.

Filed Date: 6/29/17.

Accession Number: 20170629-5058.

Comments Due: 5 p.m. ET 7/20/17.

Docket Numbers: ER17-1946-000.

Applicants: Helix Ironwood, LLC.

Description: Compliance filing: Notices of Succession and Request for Administrative Cancellation to be effective 6/2/2017.

Filed Date: 6/29/17.

Accession Number: 20170629-5064.

Comments Due: 5 p.m. ET 7/20/17.

Docket Numbers: ER17-1947-000.

Applicants: Helix Maine Wind Development, LLC.

Description: Compliance filing: Notices of Succession and Request for Administrative Cancellation to be effective 6/2/2017.

Filed Date: 6/29/17.

Accession Number: 20170629-5065.

Comments Due: 5 p.m. ET 7/20/17.

Docket Numbers: ER17-1948-000.

Applicants: Helix Ravenswood, LLC.

Description: Compliance filing: Notices of Succession and Request for Administrative Cancellation to be effective 6/2/2017.

Filed Date: 6/29/17.

Accession Number: 20170629-5066.

Comments Due: 5 p.m. ET 7/20/17.

Docket Numbers: ER17-1949-000.

Applicants: NorthWestern Corporation.

Description: § 205(d) Rate Filing: Revised Rate Schedule FERC No. 188 (MT)—Colstrip 1 & 2 Transmission Agreement to be effective 9/1/2017.

Filed Date: 6/29/17.

Accession Number: 20170629-5084.

Comments Due: 5 p.m. ET 7/20/17.

Docket Numbers: ER17-1950-000.

Applicants: AEP Texas Central Company.

Description: Tariff Cancellation: TCC MBR Tariff Volume No. 8 DB Cancellation to be effective 6/30/2017.

Filed Date: 6/29/17.

Accession Number: 20170629-5090.

Comments Due: 5 p.m. ET 7/20/17.

Docket Numbers: ER17-1951-000.

Applicants: Public Service Company of Colorado.

Description: § 205(d) Rate Filing: PSCo-WAPA-PRPA Dyn Trnsfr Craig Alloc-449-0.0.0 to be effective 8/29/2017.

Filed Date: 6/29/17.

Accession Number: 20170629-5125.

Comments Due: 5 p.m. ET 7/20/17.

Docket Numbers: ER17-1952-000.

Applicants: Louisville Gas and Electric Company.

Description: Compliance filing: Order 819 Compliance to be effective 6/30/2017.

Filed Date: 6/29/17.

Accession Number: 20170629-5154.

Comments Due: 5 p.m. ET 7/20/17.

Docket Numbers: ER17-1953-000.

Applicants: Hannaford Energy LLC.

Description: Notice of Cancellation of market based rate tariff of Hannaford Energy LLC.

Filed Date: 6/29/17.

Accession Number: 20170629-5157.

Comments Due: 5 p.m. ET 7/20/17.

Docket Numbers: ER17-1954-000.

Applicants: Athens Energy, LLC.

Description: Notice of Cancellation of market based rate tariff of Athens Energy, LLC.

Filed Date: 6/29/17.

Accession Number: 20170629-5158.

Comments Due: 5 p.m. ET 7/20/17.

Docket Numbers: ER17-1955-000.

Applicants: Midcontinent Independent System Operator, Inc.

Description: § 205(d) Rate Filing: 2017-06-29_Attachment X GIA revisions regarding Order 828 to be effective 6/30/2017.

Filed Date: 6/29/17.

Accession Number: 20170629-5159.

Comments Due: 5 p.m. ET 7/20/17.

Docket Numbers: ER17-1956-000.

Applicants: LG&E Energy Marketing Inc.

Description: Compliance filing: Order 819 Compliance to be effective 6/30/2017.

Filed Date: 6/29/17.

Accession Number: 20170629-5163.

Comments Due: 5 p.m. ET 7/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2017.
Nathaniel J. Davis, Sr.,
Deputy Secretary.

[FR Doc. 2017-14149 Filed 7-5-17; 8:45 am]

BILLING CODE 6717-01-P